DEPARTMENT OF COMMERCE

International Trade Administration

[A-201-820]

Fresh Tomatoes From Mexico: Final Results of the Expedited Sunset Review of Suspended Investigation

AGENCY: Enforcement and Compliance, International Trade Administration, Department of Commerce.

SUMMARY: As a result of this sunset review, the U.S. Department of Commerce (Commerce) finds that termination of the 2019 Agreement Suspending the Antidumping Duty Investigation on Fresh Tomatoes from Mexico would be likely to lead to continuation or recurrence of dumping at the levels indicated in the “Final Results of Review” section of this notice.

DATES: Applicable December 4, 2024.

FOR FURTHER INFORMATION CONTACT: Sally C. Gannon or Walter Schaub, Enforcement and Compliance, International Trade Administration, U.S. Department of Commerce, 1401 Constitution Avenue NW, Washington, DC 20230; telephone: (202) 482-0162 or (202) 482-0907, respectively.

SUPPLEMENTARY INFORMATION:

Background

On August 1, 2024, Commerce initiated the sunset review of the suspended antidumping duty investigation on fresh tomatoes from Mexico, pursuant to section 751(c) of the Tariff Act of 1930, as amended (the Act).¹ Commerce received notices of intent to participate in this sunset review from the Florida Tomato Exchange (FTE) on August 15, 2024, and from NS Brands, Ltd. and NatureSweet Invernaderos S. de R.L. de C.V./NatureSweet Comercializadora, S. de R.L. de C.V. (collectively, NatureSweet) on August 16, 2024, within the applicable deadline specified in section 351.218(d)(1)(i) of Commerce's regulations.

¹ See Initiation of Five-Year (Sunset) Reviews, 89 FR 62717 (August 1, 2024).

Commerce received an adequate substantive response from FTE within the 30-day deadline specified in Commerce's regulations under section 351.218(d)(3)(i). In its submission, FTE claimed interested party status under section 771(9)(E) of the Act as a trade or business association a majority of whose members manufacture, produce, or wholesale a domestic like product in the United States. NatureSweet also filed a response in which it claimed interested party status under sections 771(9)(C) and 771(9)(A) of the Act, i.e., both as a domestic and foreign producer of subject merchandise, respectively; however, the response did not meet the requirements of 19 CFR 351.218(d)(3)(iii) and 351.218(e)(1)(ii). Thus, Commerce did not receive an adequate substantive response from any respondent interested party. As a result, Commerce conducted an expedited (120-day) sunset review, in accordance with 19 CFR 351.218(e)(1)(ii)(C)(2).

Scope of the Suspension Agreement ²

² See Fresh Tomatoes From Mexico: Suspension of Antidumping Duty Investigation, 84 FR 49987 (September 24, 2019) (2019 Agreement).

The merchandise subject to the suspension agreement is all fresh or chilled tomatoes (fresh tomatoes) which have Mexico as their origin, except for those tomatoes which are for processing. For purposes of this suspension agreement, processing is defined to include preserving by any commercial process, such as canning, dehydrating, drying, or the addition of chemical substances, or converting the tomato product into juices, sauces, or purees. In Appendix F of this 2019 Agreement, Commerce has outlined the procedure that Signatories must follow for selling subject merchandise for processing. Fresh tomatoes that are imported for cutting up, not further processing (e.g., tomatoes used in the preparation of fresh salsa or salad bars), are covered by this suspension agreement.

Commercially grown tomatoes, both for the fresh market and for processing, are classified as Lycopersicon esculentum. Important commercial varieties of fresh tomatoes include common round, cherry, grape, plum, greenhouse, and pear tomatoes, all of which are covered by this suspension agreement. Tomatoes imported from Mexico covered by this suspension agreement are classified under the following subheading of the Harmonized Tariff Schedules of the United States (HTSUS), according to the season of importation: 0702. Although this HTSUS number is provided for convenience and customs purposes, the written description of the scope of this Agreement is dispositive.

A full description of the scope of the 2019 Agreement is also contained in the Issues and Decision Memorandum.³

³ See Memorandum, “Issues and Decision Memorandum for the Final Results of the Expedited Fifth Sunset Review of the Suspended Investigation of Fresh Tomatoes from Mexico,” dated concurrently with, and hereby adopted by, this notice (Issues and Decision Memorandum).

Analysis of Comments Received

All issues raised in this sunset review, including the likelihood of continuation or recurrence of dumping and the magnitude of the margin of dumping likely to prevail if the 2019 Agreement is terminated, are addressed in the Issues and Decision Memorandum. A list of topics included in the Issues and Decision Memorandum is included in the appendix to this notice. The Issues and Decision Memorandum is a public document and is on file electronically via Enforcement and Compliance's Antidumping and Countervailing Duty Centralized Electronic Service System (ACCESS). ACCESS is available to registered users at https://access.trade.gov. A list of topics discussed in the Issues and Decision Memorandum is included as an appendix to this notice. A complete version of the Issues and Decision Memorandum can be accessed directly at https://access.trade.gov/public/FRNoticesListLayout.aspx.

Final Results of Review

Pursuant to section 752(c) of the Act, we determine that the termination of the 2019 Agreement would likely lead to continuation or recurrence of dumping at weighted-average margins up to 30.48 percent.

Administrative Protective Order (APO)

This notice also serves as the only reminder to parties subject to an APO of their responsibility concerning the return or destruction of proprietary information disclosed under APO in accordance with 19 CFR 351.305. Timely notification of the return or destruction of APO materials or conversion to judicial protective order is hereby requested. Failure to comply with the regulations and terms of an APO is a violation which is subject to sanction.

Notification to Interested Parties

Commerce is issuing and publishing these final results and notice in accordance with sections 751(c), 752(c), and 777(i)(1) of the Act, and 19 CFR 351.218(e)(1)(ii)(C)(2) and 351.221(c)(5)(ii).

Dated: November 27, 2024.
Abdelali Elouaradia,
Deputy Assistant Secretary for Enforcement and Compliance.

Appendix

List of Topics Discussed in the Issues and Decision Memorandum

I. Summary

II. Background

III. Scope of the Suspension Agreement

IV. History of the Proceeding

V. Legal Framework

VI. Discussion of the Issues

1. Likelihood of Continuation or Recurrence of Dumping

2. Magnitude of the Margin Likely To Prevail

VII. Recommendation

[FR Doc. 2024-28396 Filed 12-3-24; 8:45 am]

BILLING CODE 3510-DS-P